DEPARTMENT OF COMMERCE

Foreign-Trade Zones Board

[B-15-2019]

Foreign-Trade Zone (FTZ) 163—Ponce, Puerto Rico; Notification of Proposed Production Activity; Puerto Rico Steel Products Corporation (Construction and Fencing Products), Coto Laurel, Puerto Rico

Puerto Rico Steel Products Corporation (Puerto Rico Steel) submitted a notification of proposed production activity to the FTZ Board for its facility in Coto Laurel, Puerto Rico. The notification conforming to the requirements of the regulations of the FTZ Board (15 CFR 400.22) was received on March 12, 2019.

The Puerto Rico Steel facility is located within Subzone 163L. The facility will be used for production of construction and fencing products. Pursuant to 15 CFR 400.14(b), FTZ activity would be limited to the specific foreign-status materials and components and specific finished products described in the submitted notification (as described below) and subsequently authorized by the FTZ Board.

Production under FTZ procedures could exempt Puerto Rico Steel from customs duty payments on the foreign-status components used in export production. On its domestic sales, for the foreign-status materials/components noted below, Puerto Rico Steel would be able to choose the duty rates during customs entry procedures that apply to the following steel products: Bright common nails; chain link fence; wire mesh; rebar; tubes; roll forming panels for roofing; and, snap ties (duty-free). Puerto Rico Steel would be able to avoid duty on foreign-status components which become scrap/waste. Customs duties also could possibly be deferred or reduced on foreign-status production equipment.

The components and materials sourced from abroad include: Various galvanized steel components (coil, strip, or wire); various steel components (rebar, wire, wire rod, or black annealed wire); aluminum zinc coated steel coils; cold deformed steel rebar in coils; and, concrete reinforcement steel bars in coils (duty-free). The request indicates that certain materials/components are subject to special duties under Section 232 of the Trade Expansion Act of 1962 (Section 232), depending on the country of origin. The applicable Section 232 decisions require subject merchandise to be admitted to FTZs in privileged foreign status (19 CFR 146.41).

Public comment is invited from interested parties. Submissions shall be addressed to the Board's Executive Secretary at the address below. The closing period for their receipt is May 6, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

FOR FURTHER INFORMATION CONTACT: Juanita Chen at juanita.chen@trade.gov or 202-482-1378.

Dated: March 19, 2019.
Andrew McGilvray,
Executive Secretary.

[FR Doc. 2019-05648 Filed 3-22-19; 8:45 am]

BILLING CODE 3510-DS-P